DEPARTMENT OF TRANSPORTATION

Federal Aviation Administration

14 CFR Part 39

[Docket No. FAA-2006-25689; Directorate Identifier 2006-CE-45-AD; Amendment 39-14765; AD 2006-19-08]

RIN 2120-AA64

Airworthiness Directives; Stemme GmbH & Co. KG Model STEMME S10-VT Sailplanes

AGENCY: Federal Aviation Administration (FAA), DOT.

ACTION: Final rule; request for comments.

SUMMARY: The FAA is adopting a new airworthiness directive (AD) for certain Stemme GmbH & Co. KG Model STEMME S10-VT sailplanes. This AD requires you to do a one-time inspection of all exhaust bends (each cylinder 1 to 4) in the area of the curvature bend near the cylinder flange, replace any damaged exhaust pipes found, and recondition the heat protection wrapping. This AD results from deformations and cracks found at an exhaust bend during maintenance work. We are issuing this AD to detect and correct cracks in the exhaust pipes. Damaged exhaust pipes could cause exhaust gases to expand into the engine compartment and/or carbon monoxide (CO) to leak into the cockpit section.

DATES: This AD becomes effective on October 10, 2006.

As of October 10, 2006, the Director of the Federal Register approved the incorporation by reference of certain publications listed in the regulation.

We must receive any comments on this AD by October 19, 2006.

ADDRESSES: Use one of the following addresses to comment on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

To get the service information identified in this AD, contact STEMME AG-Flugplatzstraβe F2, Nr. 7, D-15344 Strausberg, Germany; telephone: +49.33.41/36 12-0; fax: +49.33 41/36 12-30.

To view the comments to this AD, go to http://dms.dot.gov. The docket number is FAA-2006-25689; Directorate Identifier 2006-CE-45-AD.

FOR FURTHER INFORMATION CONTACT: Gregory Davison, Glider Program Manager, 901 Locust, Room 301, Kansas City, Missouri 64106; telephone: (816) 329-4130; fax: (816) 329-4090.

SUPPLEMENTARY INFORMATION:

Discussion

The European Aviation Safety Agency (EASA), which is the airworthiness authority for the European Union (EU), recently notified the FAA that an unsafe condition may exist on certain Stemme GmbH & Co. KG Model STEMME S10-VT sailplanes. The EASA reports that deformations and cracks at an exhaust bend were found during maintenance work. The defective exhaust bend was found on the thermally topmost loaded front-left cylinder. The damaged area is located in the curvature bend near the cylinder flange. If not corrected, exhaust gases may expand into the engine compartment and/or CO may leak into the cockpit section.

Relevant Service Information

We reviewed Stemme GmbH & Co. KG Service Bulletin A31-10-075 Am.-Index: 01.a, dated July 06, 2006. The service information describes procedures for inspecting the exhaust pipes in the curvature bend near the exhaust flange, replacing any damaged pipes found, and reconditioning the heat protection wrapping.

The EASA classified this service bulletin as mandatory and issued EU AD No.: 2006-0217-E, dated July 17, 2006, to ensure the continued airworthiness of these sailplanes in the EU.

FAA's Determination and Requirements of This AD

These Stemme GmbH & Co. KG Model STEMME V10-VT sailplanes are manufactured in Germany and are type-certificated for operation in the United States under the provisions of section 21.29 of the Federal Aviation Regulations (14 CFR 21.29) and the applicable bilateral airworthiness agreement.

Under this bilateral airworthiness agreement, the EASA has kept us informed of the situation described above. We are issuing this AD because we evaluated all the information and determined the unsafe condition described previously is likely to exist or develop on other products of the same type design. This AD requires you to do a one-time inspection of all exhaust bends (each cylinder 1 to 4) in the area of the curvature bend near the cylinder flange, replace any damaged exhaust pipes found, and recondition the heat protection wrapping.

In preparing this rule, we contacted type clubs and aircraft operators to get technical information and information on operational and economic impacts. We did not receive any information through these contacts. If received, we would have included a discussion of any information that may have influenced this action in the rulemaking docket.

FAA's Determination of the Effective Date

Since an unsafe condition exists that requires the immediate adoption of this AD, we determined that notice and opportunity for public comment before issuing this AD are impracticable, and that good cause exists for making this amendment effective in fewer than 30 days.

Comments Invited

This AD is a final rule that involves requirements affecting flight safety, and we did not precede it by notice and an opportunity for public comment. We invite you to send any written relevant data, views, or arguments regarding this AD. Send your comments to an address listed under the ADDRESSES section. Include the docket number “FAA-2006-25689; Directorate Identifier 2006-CE-45-AD” at the beginning of your comments. We specifically invite comments on the overall regulatory, economic, environmental, and energy aspects of the AD. We will consider all comments received by the closing date and may amend the AD in light of those comments.

We will post all comments we receive, without change, to http://dms.dot.gov, including any personal information you provide. We will also post a report summarizing each substantive verbal contact we receive concerning this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket.

Examining the AD Docket

You may examine the AD docket that contains the AD, the regulatory evaluation, any comments received, and other information on the Internet at http://dms.dot.gov; or in person at the Docket Management Facility between 9 a.m. and 5 p.m., Monday through Friday, except Federal holidays. The Docket Office (telephone (800) 647-5227) is located at the street address stated in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2006-19-08 Stemme GmbH & Co. KG: Amendment 39-14765; Docket No. FAA-2006-25689; Directorate Identifier 2006-CE-45-AD.

Effective Date

(a) This AD becomes effective on October 10, 2006.

Affected ADs

(b) None.

Applicability

(c) This AD applies to Model STEMME S10-VT sailplanes, serial numbers 11-001 through 11-103, that are certificated in any category.

Unsafe Condition

(d) This AD results from deformations and cracks found at an exhaust bend during maintenance work. We are issuing this AD to detect and correct cracks in the exhaust pipes. Damaged exhaust pipes could cause exhaust gases to expand into the engine compartment and/or carbon monoxide to leak into the cockpit section.

Compliance

(e) To address this problem, you must do the following, unless done previously:

Actions | Compliance | Procedures
(1) Inspect all exhaust bends (each cylinder 1 to 4) in the area of the curvature bend near the cylinder flange for deformations, cracks, and/or flattening. Use a minimum 10X magnifier to aid the inspection | Within the next 10 hours time-in-service after Octoober 10, 2006 | Follow Stemme GmbH & Co. KG Service Bulletin A31-10-075 Am.-Index: 01.a, dated July 06, 2006, except use a minimum 10X magnifier to aid the inspection.
(2) If any damage (deformation, cracks, and/or flattening) is found in the inspection required in paragraph (e)(1) of this AD, replace the damaged exhaust pipe | Before further flight after the inspection required by paragraph (e)(1) of this AD | Follow Stemme GmbH & Co. KG Service Bulletin A31-10-075 Am.-Index: 01.a, dated July 06, 2006.
(3) Recondition the heat protection wrapping | Before further flight after the inspection done in paragraph (e)(1) or the replacement done in paragraph (e)(2) of this AD | Follow Stemme GmbH & Co. KG Service Bulletin A31-10-075 Am.-Index: 01.a, dated July 06, 2006.

Note: According to the Maintenance Manual an inspection of the condition of the exhaust pipes is scheduled for every 100 flight hours. It is recommended to pay special attention to this item.

Alternative Methods of Compliance (AMOCs)

(f) The Manager, Standards Staff, FAA, ATTN: Gregory Davison, Glider Project Manager, FAA, Small Airplane Directorate, 901 Locust, Room 301, Kansas City, Missouri 64106; telephone: (816) 329-4130; fax: (816) 329-4090, has the authority to approve AMOCs for this AD, if requested using the procedures found in 14 CFR 39.19.

Related Information

(g) This AD is related to European Aviation Safety Agency (EASA) AD No.: 2006-0217-E, Issue date: July 17, 2006, which references Stemme GmbH & Co. KG Service Bulletin A31-10-075 Am.-Index: 01.a, dated July 06, 2006.

Material Incorporated by Reference

(h) You must do the actions required by this AD following the instructions in Stemme GmbH & Co. KG Service Bulletin A31-10-075 Am.-Index: 01.a, dated July 06, 2006. The Director of the Federal Register approved the incorporation by reference of this service bulletin in accordance with 5 U.S.C. 552(a) and 1 CFR part 51. To get a copy of this service information, contact STEMME AG-Flugplatzstraβe F2, Nr. 7, D-15344 Strausberg, Germany; telephone: +49.33.41/36 12-0; fax: +49.33 41/36 12-30. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2006-25689; Directorate Identifier 2006-CE-45-AD.

Issued in Kansas City, Missouri, on September 11, 2006.
David R. Showers,
Acting Manager, Small Airplane Directorate, Aircraft Certification Service.

[FR Doc. E6-15329 Filed 9-18-06; 8:45 am]

BILLING CODE 4910-13-P